DEPARTMENT OF THE INTERIOR

National Park Service

36 CFR Part 7

[NPS-CUVA-18292; PPMWCUVAR0, PPMRSNR1Z.Y00000]

RIN 1024-AE18

Special Regulations; Areas of the National Park System, Cuyahoga Valley National Park, Bicycling

AGENCY: National Park Service, Interior.

ACTION: Final rule.

SUMMARY: The rule authorizes and allows for the management of bicycle use on certain new trails within Cuyahoga Valley National Park. The National Park Service general regulation pertaining to bicycles requires promulgation of a special regulation to authorize bicycle use on new trails constructed outside of developed areas.

DATES: The rule is effective September 28, 2015.

FOR FURTHER INFORMATION CONTACT: Lisa Petit, Chief of Resource Management, Cuyahoga Valley National Park, (440) 546-5970.

SUPPLEMENTARY INFORMATION:

Background

Legislation and Purposes of Cuyahoga Valley National Park

On December 27, 1974, President Gerald Ford signed Pub. L. 93-555 creating Cuyahoga Valley National Recreation Area for the purpose of “preserving and protecting for public use and enjoyment, the historic, scenic, natural, and recreational values of the Cuyahoga River and the adjacent lands of the Cuyahoga Valley and for the purpose of providing for the maintenance of needed recreational open space necessary to the urban environment.” In 2000, Congress redesignated Cuyahoga Valley National Recreation Area as Cuyahoga Valley National Park (CUVA or Park) with the passage of the Department of the Interior and Related Agencies Appropriations Act (Pub. L. 106-291).

CUVA is an important national resource within a predominantly metropolitan region, where the Park is visited by approximately 2,500,000 people annually. Located in Cuyahoga and Summit Counties, Ohio, and situated between the cities of Cleveland and Akron, CUVA includes approximately 33,000 acres of land, with 19,000 acres under the administration of the National Park Service (NPS). The Park contains significant resources, including the Cuyahoga River Valley and its associated ecological functions, rich cultural resources and landscapes, and a variety of recreational and outdoor use opportunities.

In the 1930's the Cuyahoga Valley provided a respite for urban dwellers from Cleveland and Akron. During this time period, private estates in the Cuyahoga Valley had established trails and carriage roads for their private recreational enjoyment, including places like the Old Carriage trail area and the Wetmore trails. Over the years, these lands and other park lands were incorporated into the Cleveland Metroparks and Summit Metro Parks that are now part of what is designated as CUVA. Two significant trail corridors accelerated the recreational connections to the Valley: The conversion of an abandoned railroad bed to the Bike and Hike Trail in 1970 and the construction of the Towpath Trail in the late 1980's and early 1990's. Many of the trails from the earliest days of Cuyahoga Valley as a recreation destination remain today for visitors to enjoy and share the experience that has remained for over a century.

The Park's General Management Plan/Environmental Impact Statement (GMP) confirms the purpose, significance, and special mandates of the Park. According to the Park's GMP, one of the significant purposes of CUVA is to “[preserve] a landscape reminiscent of simpler times, a place where recreation can be a gradual process of perceiving and appreciating the roots of our contemporary existence.” The GMP also provides direction for park management during land acquisition and provides a framework for NPS managers to use when making decisions about how to conserve the Park's resources and manage visitor uses in the Park. Resource preservation for compatible recreational use is the overall concept for management and development of the Park.

Current Status of Trails and Associated Facilities

Regional recreational trail networks have blossomed across Northeastern Ohio, increasing demands for additional trail connections, new trail uses, and expanded recreational opportunities. Today, the Park contains approximately 175 miles of trails, approximately 97 miles of which are managed by the NPS. The NPS trail system consists of three long-distance trails—the Towpath Trail, Buckeye Trail and Valley Bridle Trail—and eleven smaller localized trail systems with separate access points. The park currently has one limited community connector through the Old Carriage Trail connector trail in the northern portion of the park and has some portions of the primary roadways improved for bike use. Metropark partners provide five additional trail systems within their units inside CUVA, and another trail, the Buckeye Trail, is managed by the Buckeye Trail Association. Currently, the Park provides access to all its trails through 25 trailheads and from the four primary Visitor Contact Centers.

These trails provide for various uses, including 34 miles for hiking and trail running only, 22 miles for multipurpose biking and hiking, 17 miles for cross-country skiing, and 35 miles for equestrian riding. Nonetheless, requests for new trail uses to meet the needs of growing user groups have become more frequent in recent years. Technologies exist today (such as personal mobility devices) that provide new means to enjoy trails. Walk‐in camping is a desired amenity that recently was approved for the first time in the park. Trail running is increasing in popularity, and biking has grown into a major recreational activity within the Cuyahoga Valley.

Comprehensive Trail Management Plan

In 1985, the Park's first Trail Management Plan was developed as the primary document to initiate many trails in the Park. The 1985 Trail Plan identified 105 miles of existing trails and proposed and evaluated 115 miles of new trail. An additional 46 miles of trails were identified for future consideration but were not evaluated in the 1985 Trail Plan. In 2013, CUVA completed a Comprehensive Trails Management Plan/Environmental Impact Statement (TMP/EIS) to guide the expansion, restoration, management, operations, and use of the trail system and its associated amenities over the next 15 years, while keeping with the purpose, mission, and significance of the Park. Some trails proposed in the 1985 Trail Plan but not yet implemented were considered as part of the TMP/EIS.

The goals of the TMP/EIS were to develop a trail network that:

• Provides experiences for a variety of trail users;

• shares the historic, scenic, natural and recreational significance of the Park;

• minimizes impacts to the park's historic, scenic, natural and recreational resources;

• can be sustained; and

• engages cooperative partnerships that contribute to the success of the Park's trail network.

The Park conducted internal scoping with Park staff, regional park district partners, and the Conservancy for Cuyahoga Valley National Park and external scoping, including the mailing and distribution of four separate newsletters, nine public meetings, and a 60-day public comment period. As a result of this process, eight alternatives, including a “No Action Alternative,” for the Park's Trail Management Plan were developed.

The Record of Decision (ROD), for the TMP/EIS, signed by the NPS Midwest Regional Director on August 8, 2013, identified the Preferred Alternative 5 as the Selected Alternative for implementation. Under this Alternative, approximately 14.5 miles of new bicycle trails could be constructed in undeveloped regions of the park and authorized by special regulations for bicycle use. The Alternative also considers approximately eight additional miles of existing trail or roadways that could be authorized for bicycle use in the future. The construction and authorization of these trails for bicycle use will be conditional on funding and subject to the development of other facilities or activities (including evaluation of resource impacts) conducted prior to implementation.

Due to the age and conceptual nature of the 1977 GMP, a 2013 Foundation Document was developed for the Park that identifies active recreation and implementation of the TMP/EIS as an objective to meets its goals. The TMP/EIS and ROD may be viewed online at http://parkplanning.nps.gov/cuyahogatrailplan.

Construction and Management of the Bicycle Trails

Many of the proposed bicycle trails have not yet been built and will not be immediately open for use. An Implementation Strategy is under development to prioritize trail projects and assemble the additional planning, funding, staffing, project management, and monitoring that will be needed to accomplish them successfully. The Trails Forever Program, administered by the Park in partnership with the Conservancy for Cuyahoga Valley National Park, will be the overarching program under which this implementation strategy will be realized.

Volunteers for trail work at the Park will continue to be a vital component of trail stewardship in the Park. Management and coordination of volunteers will continue through the joint Volunteer Program office of the Park and the Conservancy for Cuyahoga Valley National Park. The use of Park staff and the existing volunteer trail groups to monitor and mitigate the environmental impacts of bicycle use on these trails will ensure that the trails are maintained in good condition and that any issues of concern are immediately brought to the attention of Park management. In addition, the Park will continue to update its Sign Plan and upgrade park and trail signs accordingly. As trail signs are updated, trail accessibility information for each trail will be made available to the public.

Notice of Proposed Rulemaking

On October 14, 2014 the NPS published a proposed rule that would authorize and allow for management of bicycle use on certain new trails within CUVA, (79 FR 61587). The proposed rule was available for a 60-day public comment period, from October 14, 2014 through December 15, 2014. Comments were accepted through the mail, by hand delivery, and through the Federal eRulemaking Portal: http://www.regulations.gov.

Summary of and Responses to Public Comments

The NPS received 300 public comments during the comment period. Responses to the comments mostly referred to the TMP/EIS completed in 2013. Of these comments, 276 expressed support for the proposed rule. One supportive comment was from an organization, the National Parks Conservation Association, and the rest were from individuals. There were three commenters who had a neutral stance and 21 comments submitted in opposition to the proposed rule. There were no opposing responses from organizations.

Supporting Comments

The 276 supporting comments expressed eight central themes:

Engaging More Park Users Including Youth and Families

The authorization of off-road bicycle use in CUVA will expand the utilization of the park by new users, including youth and families, by providing new and exciting opportunities to participate in outdoor recreation activities. Providing younger members of society with off-road bicycling opportunities encourages them to develop a sense of pride and ownership in the trails they ride and maintain, creating the next generation of stewards. It is well substantiated that there are many individuals that enjoy this activity in other parks and on other public lands outside of the region with only a few areas available within the region. Recent years have seen new trails within Cleveland Metroparks and Summit Metro Parks and the activity continues to grow in popularity as evidenced by an increase in bike sales.

Healthy Lifestyles/Enjoying Nature

Allowing off-road bicycle use is important for public health because it contributes to healthy, active lifestyles and getting people out into nature. Bike riding is well established as a significant form of exercise that contributes to personal health and well-being. By providing for greater use of bicycles on trails more people can benefit from this form of exercise as well enjoying time in the out of doors

Tourism & Economic Development

Allowing off-road bicycle use is an important draw for tourism and a catalyst for economic development in and around CUVA and the northeast Ohio region. CUVA serves increasingly as a destination for out of town visitors crossing the country and visiting national parks. With the addition of off-road single track bike trails, the park and region will be even more inviting as a destination for extended-stay excursions. Bike trails are well known to be a quality of life indicator and an attraction for young professionals and others looking to relocate for jobs and family.

Volunteerism & Stewardship

Off-road bicycle use is environmentally appropriate and can contribute to protection of natural and cultural resources. This has been demonstrated both outside of our region and within our area, where many individuals who are avid off-road bicyclists frequently volunteer for trail maintenance and stewardship activities. The bicycling community provides extensive education to encourage volunteerism and environmental stewardship. This education includes trail etiquette to facilitate coexistence among user groups, and to model appropriate use of the trails systems for improved safety. Local park districts within the surrounding communities have developed a volunteer network of trail stewards that maintain and patrol trails and report when conditions are not favorable for riding and/or when closing a trail is needed to prevent damage.

Planning, Sustainability, Safety

The NPS is a trusted source for protection of natural resources and included a robust planning process and Sustainable Trail Design Guidelines in the preparation of the TMP/EIS. These activities reinforce the communities' knowledge and appreciation for appropriate planning processes, and provide leadership in the execution of sustainable trail building practices that will benefit other public land stewards in the region. Safety is a primary design criterion for trail improvements within the park and is central to considerations for operational and utilization decisions.

Increased Access and Trail Linkages

Allowing off-road bicycle use will make remote parts of CUVA more accessible to some visitors who want to experience the full breadth of resources in the park. Additionally, there will be opportunities for additional linkages and looped systems within the existing trail network.

Community Development & Partnerships

Bicycle trails in CUVA have been the center point for partnerships and community development, such as the volunteer efforts of the Boy Scouts to build the Arrowhead Trail. If permanent access for bicycle use is allowed, these relationships will continue to flourish, building a sense of stewardship among trail users and park staff.

Resource Protection

The construction of single track off-road bicycle trails will exemplify sustainable construction practices and provide an educational opportunity to the public and volunteers participating in construction and maintenance. This exposure will enable users to better understand the sensitivity of natural resources and how proper design practices are necessary for protection and conservation. Volunteers can become engaged in the on-going maintenance and consequently learn firsthand the proper construction and maintenance techniques to protect natural resources. This has been demonstrated both outside of our region and within our area where many individuals who are avid off-road bicyclists frequently volunteer for trail maintenance and stewardship activities.

Some commenters supported the new bicycle rule but also had questions, asked for clarifications, or proposed ideas for which the NPS has prepared responses. These comments are paraphrased and answered below:

1. Comment: I would propose that a mountain bike trail be built on Latta Lane where homes were previously located. This area is flat and would not need extensive construction to create a parking space.

Response: Latta Lane has been proposed as a designated camping area in the Park's Boston Mills Area Conceptual Development Plan and Environmental Assessment (2013). No off-road bicycle trails are planned for this area.

2. Comment: “Outside of developed areas” needs to be clarified.

Response: Developed area is defined at 36 CFR 1.4, and means roads, parking areas, picnic areas, campgrounds, or other structures, facilities or lands located within development and historic zones depicted on the park area land management and use map. Trails in developed areas are typically multi-use trails, with improved surface pathways that serve several types of users including bicyclists and hikers. Off-road bicycle trails are located in undeveloped areas of a park, designed with a natural surface and designated for cross-country non-motorized bicycle use that can also be utilized for hiking or running.

3. Comment: I would also love to see Thru Hiking and Thru Biking such as the Chesapeake and Ohio Canal NP. I would also like to see easier put in and take out for paddling.

Response: Within the Park, the Ohio & Erie Canal Towpath Trail and the Summit Metro Park's Bike & Hike Trail currently offer thru biking and hiking with existing and proposed connections between the two. The Buckeye Trail offers thru hiking as well. A water trail with launch sites has been proposed in TMP/EIS.

4. Comment: I'm not sure what the “cross country” designation for the High Meadow Trail means. Does this mean that it is for foot and bicycle use? Also for that trail, where are the end points of the trail? A little more description in the proposal would be helpful.

Response: In the TMP/EIS, High Meadow is a proposed 5-kilometers (3.1 miles) loop trail for cross-country skiing training and competitive purposes, located west of Blue Hen Falls along Boston Mills Road. The trail would link to the Buckeye Trail for hike connections and is proposed for conditional use as an off-road bicycle trail. Conditional use of High Meadow is subject to evaluation by the Park of the following activities: Implementation of the proposed East Rim Trail and its success to meet the goals and objectives of the Trail Plan, Cleveland Metroparks' implementation of off-road bicycle use on the Buckeye Trail portion owned by them that may terminate at NPS lands, and evaluation of the potential impacts of bicycle use on the NPS portion of the Buckeye Trail. Because no other conditional trails are included in this rule, and because the use of High Meadow Trail for bicycling is contingent on other conditional trails being established, this trail is being withdrawn from and will not be authorized for bicycle use in this final rule.

5. Comment: Can the superintendent deny bicycle access at any time despite information included in the EIS, and that any new trail openings will require a separate approval? Was the scope of the EIS only to allow the construction of the trails, irrespective of the intended use of the trails? Or is this language to assure that, in the case of changing/degrading conditions over time, that some person has the authority to suspend use of the trails until solutions can be implemented?

Response: New trail construction requires additional compliance or agency review prior to implementation, subject to federal and park regulations. The TMP/EIS developed a blueprint that will guide the expansion, restoration, management, operations and use of the trail system and its associated amenities, over the next 15 years, in keeping with the purpose, mission and significance of CUVA. As this plan is implemented, all trails and their uses will be evaluated and monitored to ensure resource protection, visitor safety, and operational sustainability. The Superintendent of CUVA will have the authority to close or restrict use of trails after taking into consideration public health and safety, resource protection, and other management activities and objectives.

6. Comment: I believe there needs to be stricter regulation of bike trails than hiker trails. Bikers should stay on these proposed trails that were designed for their use.

Response: All trails will be monitored as per the Sustainable Trail Guidelines (Appendix C) of the TMP/EIS. Education, signage and monitoring will help curb straying from the trail tread.

7. Comment: I would expect and hope that the Bike and Hike Trail would connect to this [East Rim] trail at several points and also the Towpath could also connect to this at a point or two as well.

Response: Access to the proposed East Rim Trail is from the Bike & Hike Trail. There are existing and proposed connections between the Bike & Hike Trail and the Ohio & Erie Canal Towpath Trail as proposed in the TMP/EIS.

8. Comment: I hope the mountain bike trails have a variety of difficulty levels—easy, medium and hard—to satisfy the different visitors. I also hope that you offer classes or workshops for the beginning rider. And I would like to see the Carriage Trail re-opened soon!

Response: Trails will be built working with the terrain using the Sustainable Trail Guidelines and the goal is to have a variety of difficulty levels. The Park identifies the restoration of the Old Carriage Trail bridges for visitor use within the Trail Plan. The Park continues to seek funding for the design, engineering and construction work required for replacement of three deteriorated, long-span trail bridges. Once this construction work is completed the Old Carriage trail will be opened for public use.

9. Comment: “Mountain bikes just tear up trails”, but in the late fall and all spring, the bridle trails can be completely decimated by horses. There are portions that are not even suitable for hiking, let alone running.

Response: The Park will use the Sustainable Trail Guidelines for all trails and implement seasonal closures to protect park resources and to meet the goals of a sustainable trails system in the Park. Seasonal closures will reduce impacts to park resources, minimize risk of tread widening, reduce annual maintenance costs to high-risk areas and provide an improved visitor experience during the drier seasons of the year. Natural resource related seasonal closures will address three primary conditions; wet, muddy conditions, flood events, and wildlife nesting activities. The Park may identify additional resource or operational issues that require seasonal trail closures.

10. Comment: Ten miles of single track is much too short. Having volunteered at the park for several years, I'm curious why there are over twice the miles of bridle trails to the proposed single track?

Response: During public scoping of the TMP/EIS, many of the trail user groups, particularly the mountain bike and equestrian trail users, desired significantly expanded trail miles within CUVA for their particular use. Given the current level of use, limitations of land ownership and resource conditions, and current, planned or projected regional trail systems available to these user groups, significant expansions were not included in the selected alternative.

11. Comment: I would also love to see areas that allowed climbing. There were so many opportunities in the park for climbing.

Response: During the public scoping period of the TMP/EIS, the public was invited to provide ideas regarding the future trail system in the Park. Some proposals like rock climbing were outside the scope of the TMP/EIS and were not considered. Rock climbing is prohibited in CUVA.

12. Comment: If off-road refers to something with a motor I object. Motors do NOT belong in a park.

Response: Off-road motorized vehicles are prohibited by NPS Management Policies and are not permitted on current or proposed park trails.

Neutral Comment

One neutral commenter proposed ideas for which the NPS has prepared a response. The comment is paraphrased and answered below:

Comment: I think the CUVA should limit single-track bike trails within its federal boundaries to this east rim. The plan suggests possible future off road bicycle development along the High Meadow/Buckeye trail area of the CUVA. If the Cleveland Metroparks decides to put in a bike trail in the more remote southern section of the Brecksville Reservation I do not think the CUVA needs to extend that use through federal property. My reasons are as follows: Existing off road trails in Bedford Reservation and in-process trails at Hampton Hills Metro Park now complement the CUVA's Eastern Rim plan and extend off road bike trail connections at both ends of the park. Development of off road trails in less used portions of the park does isolate them, but the fast pace, rough and probable heavy use alters the localized area. The western rim should be kept as it is—a quieter, more isolated area of the park, where one can experience this geologically interesting portion of the park without off-road biking trails.

Response: In the TMP/EIS, High Meadow is a proposed 5-kilometers (3.1 miles) loop trail for cross-country skiing training and competitive purposes, located west of Blue Hen Falls along Boston Mills Road. The trail would link to the Buckeye Trail for hike connections and is proposed for conditional use as an off-road bicycle trail. Conditional use of High Meadow is subject to evaluation by the Park of the following activities: Implementation of the proposed East Rim Trail and its success to meet the goals and objectives of the Trail Plan; Cleveland Metroparks' implementation of off-road bicycle use on the Buckeye Trail portion owned by them that may terminate at NPS lands; and evaluation of the potential impacts of bicycle use on the NPS portion of the Buckeye Trail. Because no other conditional trails are included in this rule, and the use of High Meadow Trail for off-road bicycles is contingent on other conditional trails being established, this trail location is being withdrawn from and will not be authorized for bicycle use in this final rule.

Opposing Comments

The 24 comments submitted in opposition to off-road bicycle trails were focused on five primary areas of concern: Impacts on natural resources; User conflicts-safety; User conflicts-visitor experience; NPS operational burden; and Inconsistency with NPS mission.

Impacts on Natural Resources

The most common concern expressed by commenters in opposition to the proposed rule was that off-road bicycles cause serious impacts to natural resources, including wildlife habitat, plants, soils, and water quality.

Representative Comments

(1) Trail building destroys wildlife habitat! It not only destroys the habitat under and next to the trail, but it renders a wide swathe of habitat on either side of the trail useless to the wildlife, due to the presence of people.

(2) Each time a pathway is created, that new opening allows invasive species into that area, both plant and animal.

(3) This is not a good idea. The trails already suffer erosion from heavy use and allowing mountains bikes will only worsen the problem.

(4) Constructing new trails removes vegetation, which fragments habitats, risks destroying important or rare species, and can contribute to high soil erosion, which leads to water contamination.

Response: The analysis of potential adverse effects of trail elements in the selected action is provided in Chapter 4 of the TMP/EIS. Impacts of the proposed off-road bicycle trails on wildlife and wildlife habitat, vegetation, soils, and water quality are expected to be relatively minor because of the locations selected, the current ecological conditions, and the use of Sustainable Trail Guidelines for planning, design, construction, management and monitoring of all trails. Sensitive habitats including wetlands will be avoided, and trails will be constructed using best practices to minimize adverse impacts such as erosion. As stated in the Record of Decision for the TMP/EIS, “as the NPS implements the actions associated with the selected action, it must protect the park's natural and cultural resources and not impair the quality of the visitor experience. Additionally, bicycle use must be consistent with the protection of the park area's natural, scenic and aesthetic values, safety considerations and management objectives, and not disturb wildlife or park resources. To ensure that this occurs, a consistent set of mitigation measures will be applied to all trail management actions in the park. The NPS will avoid, minimize, and mitigate adverse impacts of trail management actions when practicable. Compliance monitoring and reporting will be part of all mitigation measures. The Sustainable Trail Guidelines outline monitoring that will be conducted to detect and arrest resource damage from trail use. In addition, the Superintendent will be authorized to impose closures or restrictions on bicycle trails after taking into consideration public health and safety, resource protection, and other management activities and objectives.

User Conflicts—Safety

Most comments in opposition to the proposed rule expressed concern for safety of hikers sharing trails with off-road bicycles, primarily due to concerns about speed and inconsiderate/intimidating behavior of bikers, as well as a perception that bikers have little regard for authority or regulations.

Representative Comments

(1) If you have ever tried to hike around large, fast-moving pieces of machinery such as bicycles, you know that it is scary and no fun!

(2) I avoid areas used by mountain bikers because, generally speaking, they are rude by not signaling when approaching from behind and scare the “heck” out of you. They also speed on the trails and do not have good control of their bikes.

(3) I have enough difficulty on the authorized paved hike and bike trails trying to bird watch or nature study, while dodging inconsiderate bikers too oblivious to issue an approaching warning.

(4) Much of the scenic opportunity seems lost on cyclists who are more concerned with how fast they can get from point A to point B.

(5) Mountain bikers consider themselves renegades with justified use of all public land with impunity.

Response: This rule provides the Superintendent the authority to manage off-road bicycling on trails in undeveloped areas, including the establishment and enforcement of closures, restrictions, and conditions to ensure public safety and protection of park resources. Public scoping provided a variety of ideas regarding trail sharing among different user groups. The Park utilized data and research available on a variety of trail systems to evaluate visitor experience of trail uses, as outlined in the TMP/EIS. The information indicated that some trail uses are more compatible together than others. The selected alternative provides opportunities for increased trail sharing among compatible trail uses such as off-road bicycles and hikers, and limits sharing between less compatible trail user groups. The sharing of trails among compatible user groups will assist the Park in meeting goals of the TMP/EIS to minimize the footprint of trails within the Park to protect resources. The Sustainable Trail Guidelines outline methods that will be used to monitor visitor carrying capacity on trails. In addition to impacts on natural resources, numbers of different user types on trails and incidents of conflict or accidents will be monitored to determine methods to eliminate conflicts and impacts.

User Conflicts—Visitor Experience

Some commenters expressed specific concerns that off-road bicycles disrupt the quiet and tranquility of the hiking experience.

Representative Comments

(1) Bicyclists inevitably . . . disrupt the peace and tranquility that comes with a National Park experience.

(2) Biking in pristine areas takes away the beauty and quiet of the area.

(3) The serenity and tranquility have forever been transformed into the BMX race course.

(4) Please do not allow mountain bikes in the Cuyahoga Valley Park. It will ruin the sublime, quiet nature of the park, at the expense of walkers and joggers.

Response: The preferred alternative in the TMP/EIS was the selected action because it best fulfills the purpose and need for the plan and provides the broadest range of visitor experiences while minimizing impacts to park resources. Most existing trails and proposed new trails will be primarily for hiking and will provide a variety of experiences, including more remote, primitive experiences. Where shared use between off-road bicycles and hikers is planned, park managers will monitor visitor carrying capacity and manage trail use to minimize or eliminate user conflicts and ensure safety. Further, this rule will authorize the Superintendent to impose closures and or establish conditions or restrictions on bicycle trails after taking into consideration public health and safety, resource protection, and other management activities and objectives.

NPS Operational Burden

Many commenters expressed concerns regarding the costs of long-term maintenance of trails. Some concerns were related to there being enough or too many trails in the park already. Comments also included concerns about prioritization of trail work, suggesting more emphasis on improving existing trails before building new trails. Two commenters specifically mentioned that the Old Carriage Trail bridges should be replaced.

Representative Comments

(1) No money should be spent on these new trails until the Bridges on the Old Carriage Trail have been replaced.

(2) You don't seem to be able to maintain the trails that you have now. Much of the buckeye trail through the park would greatly benefit from stabilization projects.

(3) I would . . . request that before proceeding with actual trail construction CUVA consider adopting a method, open for public comment, for determining the priority in which proposed trail changes set forth in the Trail Plan are to be implemented.

(4) I just think that preexisting trails are sufficient and there is no need to create more. Sticking to preexisting trails . . . will not significantly increase trail maintenance as the creation of new trails would.

Response: The TMP/EIS is intended to set a vision for implementation over the next 15 years. Implementation will occur as funding becomes available and projects are prioritized. This Plan will require the NPS to seek a new approach for funding than traditional NPS base and capital budgets. The Conservancy for Cuyahoga Valley National Park assists the park trails through fundraising efforts under the TRAILS FOREVER Program for trail maintenance and capital projects. The creation of a portfolio of funding sources is necessary to accomplish the recommendations set forth in the TMP/EIS and will be part of the Implementation Strategy that is identified in the TMP/EIS. Prioritization of trail projects will emphasize restoration and maintenance of existing trails as well as seeking funding to implement new trails. The Park will continue to work in cooperation with trail stakeholder groups as appropriate in the planning and design process for trails. In addition, the Old Carriage Trail bridges remain a priority for the Park, which continues to pursue funding opportunities to replace the failing bridges.

Inconsistency With NPS Mission

Some commenters expressed concerns that allowing off-road bicycles outside of developed areas was inconsistent with the mission of the NPS and of the CUVA.

Representative Comments

(1) Thought the national park systems were created to preserve the natural biological systems remaining in this land, and not provide an outlet for mechanized thrill seekers. Authorizing such activities is not in keeping with the intent of the national park system, and I urge you to severely limit, or totally ban any such activities on park lands.

(2) The purpose of the park is to preserve nature and enjoy it—not to damage it with deep ruts that create more erosion and mud, etc.

(3) The primary purpose of the national park system is to PRESERVE those remaining bits of wildlife habitat, so that all future generations will still be able to experience it. You are failing to adhere to your mission.

(4) Is the CUVA's main attraction really “trails”? And should the park want to be characterized that way? What is the desired experience for visitors from other states, for locals who walk or bike casually in the park, for suburban/urban families who visit on weekends? How does the CUVA make itself different from a state park or a metropark or a national recreation area?

Response: The enabling legislation that established CUVA states that the park was created “To preserve and protect for public use and enjoyment, the historic, scenic, natural and recreational values of the Cuyahoga River and the adjacent lands of the Cuyahoga Valley and for the purpose of providing for the maintenance of needed recreational open space necessary to the urban environment.” The purpose of the TMP/EIS is to develop a blueprint that will guide the expansion, restoration, management, operations and use of the trail system and its associated amenities, over the next 15 years, in keeping with the purpose, mission and significance of CUVA. Since its establishment in 1974, the Park has experienced significant changes in visitation, programs and operations. Outdoor recreation trends have continued to evolve over the past 31 years in how visitors use or would like to use the Park. The additional development of trails and trail facilities will assist in meeting the needs of current and future visitation to the Park's trails.

Changes From the Proposed Rule

After consideration of the public comments, and additional review, the NPS has determined that one substantive change is necessary in the final rule: Removal of the High Meadow Trail from consideration as an off-road bicycle trail. This trail is designated as a cross-country ski trail, with conditional status as a potential off-road bicycle trail. Because no other conditional trails are included in this rule, and the use of High Meadow Trail for off-road bicycles is contingent on other conditional trails being established, this trail location is being withdrawn from and will not be authorized for bicycle use in this final rule.

The Final Rule

To provide visitors with additional recreational bicycling opportunities and in compliance with the provisions of 36 CFR 4.30, this rule will allow the Superintendent to authorize bicycle use on all or portions of each of the following trails:

Trail name | Approximate length | Surface type | Usage type | Description
East Rim | 10 miles | Natural surface | Off-road, single-track bicycle | Approximately ten miles of a loop system trail of varying distances along the east central portion of the Park, north of Old Akron-Peninsula Road and south of Brandywine Falls trailhead, near the Krecjic Restoration Site.
Old Carriage Connector Trail | 0.35 miles | Crushed gravel | Multi-purpose | Extension of existing Old Carriage Road connector to existing Bike and Hike Trail.
Highland Connector Trail | 1.0 miles | Crushed gravel | Multi-purpose | New connector from existing Bike and Hike Trail to existing Towpath Trail on south side of Highland Road, extending on the north side of Highland Road from Towpath to the Vaughn overflow parking area.

After trail construction is completed, but before a trail is authorized for bicycle use, the Superintendent will be required to issue a written determination that the trail is open for public use and that bicycle use is consistent with the TMP/EIS, including implementation of the park's sustainable trail guidelines with monitoring and mitigation through adaptive management. This will ensure that bicycle use remains consistent with the protection of the park area's natural, scenic and aesthetic values, safety considerations and management objectives, and will not disturb wildlife or park resources. No additional NEPA compliance would be necessary beyond the TMP/EIS ROD, and the written determination will be added into the park's administrative file for the trail project. The Superintendent will provide public notice when trail(s) are authorized for bicycle use through one or more of the procedures under 36 CFR 1.7.

The final rule also authorizes the Superintendent to establish conditions, impose closures, or restrictions for bicycle use on authorized trails, after taking into consideration public health and safety, resource protection, and other management activities and objectives, provided public notice is given under 36 CFR 1.7.

Compliance With Other Laws, Executive Orders, and Department Policy

Regulatory Planning and Review (Executive Orders 12866 and 13563)

Executive Order 12866 provides that the Office of Information and Regulatory Affairs in the Office of Management and Budget will review all significant rules. The Office of Information and Regulatory Affairs has determined that this rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act (RFA)

This rule will not have a significant economic effect on a substantial number of small entities under the RFA (5 U.S.C. 601 et seq.). This certification is based on information contained in the report titled, “Cost-Benefit and Regulatory Flexibility Analyses: Proposed Regulations to Designate Bicycle Routes in Cuyahoga Valley National Park” that is available for review at http://parkplanning.nps.gov/cuyahogatrailplan.

Small Business Regulatory Enforcement Fairness Act (SBREFA)

This rule is not a major rule under 5 U.S.C. 804(2), the SBREFA. This rule:

a. Does not have an annual effect on the economy of $100 million or more.

b. Would not cause a major increase in costs or prices for consumers, individual industries, Federal, State, or local government agencies, or geographic regions.

c. Does not have significant adverse effects on competition, employment, investment, productivity, innovation, or the ability of U.S.-based enterprises to compete with foreign-based enterprises.

The current and anticipated users of bicycle routes in CUVA are predominantly individuals engaged in recreational activities. There are no businesses in the surrounding area that would be adversely affected by bicycle use of these trails. Although the park does not have any bicycle rental concessioners, there is a bicycle rental facility adjacent to the park that provides bike rentals that are used within CUVA.

Unfunded Mandates Reform Act (UMRA)

This rule does not impose an unfunded mandate on State, local, or tribal governments or the private sector of more than $100 million per year. The rule does not have a significant or unique effect on State, local or tribal governments or the private sector. A statement containing the information required by the UMRA (2 U.S.C. 1531 et seq.) is not required.

Takings (Executive Order 12630)

This rule does not affect a taking of private property or otherwise have taking implications under Executive Order 12630. A taking implications assessment is not required because this rule will not deny any private property owner of beneficial uses of their land, nor will it significantly reduce their land's value.

Federalism (Executive Order 13132)

Under the criteria in section 1 of Executive Order 13132, this rule does not have sufficient federalism implications to warrant the preparation of a Federalism summary impact statement. A Federalism summary impact statement is not required.

Civil Justice Reform (Executive Order 12988)

This rule complies with the requirements of Executive Order 12988. Specifically this rule:

(a) meets the criteria of section 3(a) requiring that all regulations be reviewed to eliminate errors and ambiguity and be written to minimize litigation; and

(b) meets the criteria of section 3(b)(2) requiring that all regulations be written in clear language and contain clear legal standards.

Consultation With Indian tribes (Executive Order 13175 and Department Policy)

The Department of the Interior strives to strengthen its government-to-government relationship with Indian Tribes through a commitment to consultation with Indian Tribes and recognition of their right to self-governance and tribal sovereignty. We have evaluated this rule under the Department's consultation policy and under the criteria in Executive Order 13175 and have determined that it has no substantial direct effects on federally recognized Indian tribes and that consultation under the Department's tribal consultation policy is not required. Affiliated Native American tribes were contacted by letters sent in June, 2012 and May, 2013 to solicit any interests or concerns with the proposed action. No responses were received by the Park.

Paperwork Reduction Act (PRA)

This rule does not contain information collection requirements, and a submission to the Office of Management and Budget under the PRA is not required.

National Environmental Policy Act (NEPA)

We have prepared an environmental impact statement and have determined that this rule will not have a significant effect on the quality of the human environment under the NEPA of 1969. The TMP/EIS for the Park and ROD that included an evaluation of bicycling within the proposed areas may be viewed online at http://parkplanning.nps.gov/cuyahogatrailplan.

Effects on the Energy Supply (Executive Order 13211)

This rule is not a significant energy action under the definition in Executive Order 13211. A statement of Energy Effects is not required.

Drafting Information

The primary authors of this regulation are Lynn Garrity, and Kim Norley, Cuyahoga Valley National Park, and C. Rose Wilkinson and A.J. North, NPS Regulations Program, Washington, DC.

List of Subjects in 36 CFR Part 7

National Parks, Reporting and recordkeeping requirements.

In consideration of the foregoing, the NPS amends 36 CFR part 7 as set forth below:

PART 7—SPECIAL REGULATIONS, AREAS OF THE NATIONAL PARK SYSTEM

1. The authority for Part 7 continues to read as follows:

Authority: 54 U.S.C. 100101, 100751, 320102; Sec. 7.96 also issued under D.C. Code 10-137 and D.C. Code 50-2201.07.

2. Amend § 7.17 by revising the section heading and adding paragraph (b) to read as follows:

§ 7.17 Cuyahoga Valley National Park.

* * * * *

(b) Bicycles. (1) The Superintendent may authorize bicycle use on all or portions of each of the following trails:

(i) East Rim (approximately 10 miles);

(ii) Old Carriage Connector Trail (approximately 0.35 miles); and

(iii) Highland Connector Trail (approximately 1.0 mile).

(2) After trail construction is complete:

(i) To authorize bicycle use, the Superintendent must make a written determination that:

(A) The trail is open for public use; and

(B) Bicycle use is consistent with the protection of the park area's natural, scenic and aesthetic values, safety considerations, and management objectives, and will not disturb wildlife or park resources.

(ii) The Superintendent will provide public notice of all such actions through one or more of the methods listed in § 1.7 of this chapter.

(3) The Superintendent may open or close authorized trails, or portions thereof, or impose conditions or restrictions for bicycle use after taking into consideration public health and safety, natural and cultural resource protection, and other management activities and objectives.

(i) The Superintendent will provide public notice of all such actions through one or more of the methods listed in § 1.7 of this chapter.

(ii) Violating a closure, condition, or restriction is prohibited.

Dated: July 31, 2015.
Michael Bean,
Principal Deputy Assistant Secretary for Fish and Wildlife and Parks.

[FR Doc. 2015-21198 Filed 8-26-15; 8:45 am]

BILLING CODE 4310-EJ-P